DEPARTMENT OF ENERGY

Federal Energy Regulatory Commission

[Project No. 3211-010]

Power Authority of the State of New York; Notice of Availability of Draft Environmental Assessment

In accordance with the National Environmental Policy Act of 1969 and the Federal Energy Regulatory Commission's (Commission) regulations, 18 CFR part 380, the Office of Energy Projects has reviewed the application for a new license to continue to operate and maintain the Hinckley (Gregory B. Jarvis) Hydroelectric Project (Jarvis Project). The Jarvis Project is located on West Canada Creek, near the Hamlet of Hinckley in the counties of Oneida and Herkimer, New York.

On June 27, 2022, the Commission issued a notice indicating that staff intended to prepare a multi-project Environmental Assessment (EA) for both the Jarvis Project and Erie Boulevard Hydropower, L.P.'s West Canada Creek Hydroelectric Project, because the projects are located adjacent to each other. However, the Fiscal Responsibility Act of 2023 now requires that an EA “shall not exceed 75 pages, not including any citations or appendices” (Fiscal Responsibility Act of 2023, Pub. L. 118-5, 107, 137 Stat 42 (2023)). A multi-project EA would have exceeded the page limit established in the Act, so staff has prepared a stand-alone draft Environmental Assessment (EA) for the Jarvis Project.

The draft EA contains staff's analysis of the potential environmental impacts of the project and concludes that licensing the project, with appropriate environmental protective measures, would not constitute a major federal action that would significantly affect the quality of the human environment.

The Commission provides all interested persons with an opportunity to view and/or print the draft EA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Any comments should be filed within 45 days from the date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number (i.e., P-3211-010).

For further information, contact Andy Bernick at (202) 502-8660 or by email at andrew.bernick@ferc.gov.

Dated: September 6, 2023.
Kimberly D. Bose,
Secretary.

[FR Doc. 2023-19653 Filed 9-11-23; 8:45 am]

BILLING CODE 6717-01-P